DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of February 26, 2018 through March 30, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) The sales or production, or both, of such firm, have decreased absolutely;

AND (ii and iii below)

(ii) (I) imports of articles or services like or directly competitive with articles produced or services supplied by such firm have increased; OR (II)(aa) imports of articles like or directly competitive with articles into which one or more component parts produced by such firm are directly incorporated, have increased; OR (II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i) (I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
93,103 | Siemens Gamesa Renewable Energy, Inc., Siemens Energy, Inc., Randstad SourceRight, Cor-Tech, Excel, InSync, etc | Hutchinson, KS | August 29, 2016.
93,216 | Pharmaceutics International Inc., Abacus Corporation, Apex Life Sciences, Augmentation, Randstad, etc | Hunt Valley, MD | October 6, 2016.
93,247 | West Linn Paper Company, Belgravia Investments, Galt Foundation, Integrity Staffing, etc | West Linn, OR | October 23, 2016.
93,294 | National Spinning Beulaville Spinning Plant, National Spinning Co., Inc., YS Companies | Beulaville, NC | November 8, 2016.
93,303 | Huawei Technologies USA, Inc., Huawei Investment & Holding Co., APC Workforce Solutions, ZeroChoas, etc | Plano, TX | November 10, 2016.
93,378 | Essilor Laboratories of America, Inc., Crown Optical, Essilor Laboratories of America Holding Co., etc | Greenville, RI | December 18, 2016.
93,404 | Shaw Industries Group, Inc., Solid Hardwood, Berkshire Hathaway | Stuart, VA | December 13, 2016.
93,414 | Parker Hannifin Corporation, Industrial Process, DXE Staffing, Manpower, Advantage Staffing | Tell City, IN | January 8, 2017.
93,428 | Parker Hannifin Corporation, Parker Filtration Group Engine Mobile Aftermarket, Advanced Services, etc | Gothenburg, NE | January 16, 2017.
93,446 | GenOn Energy Services, LLC, PA-Mobile Maintenance, The Empyrean Group | New Florence, PA | January 17, 2017.
93,470 | Infinite Computer Solutions, Inc., International Business Machines (IBM) | Phoenix, AZ | December 20, 2016.
93,473 | Prolifics, Inc., Prolifics Application Services Inc | Calabasas, CA | January 26, 2017.
93,531 | Siemens Gamesa Renewable Energy, Inc., Siemens Energy, Inc., Team Staffing Solutions and Manpower | Fort Madison, IA | February 7, 2017.
93,563 | Telvista, Inc | Danville, VA | February 16, 2017.

The following certifications have been issued. The requirements of Section 222(a)(2)(B) (Shift in Production or Services to a Foreign Country Path or Acquisition of Articles or Services from a Foreign Country Path) of the Trade Act have been met.

TA-W No. | Subject firm | Location | Impact date
92,894 | Plews, Inc., Basil Tree LLC, Manpower | Dixon, IL | March 11, 2017.
93,114 | Tracy June Hubbard Charitable Trust | McMinnville, TN | September 4, 2016.
93,248 | Unilever United States, Inc., Unilever NV, Manpower | Shelton, CT | October 23, 2016.
93,324 | Dresser-Rand, A Siemens Business, Painted Post Operations | Painted Post, NY | November 15, 2016.
93,325 | ImClone Systems LLC, Eli Lily and Company, Aerotek, Diverse Staffing, Mindlance, Tech Data, etc | Bridgewater, NJ | November 24, 2016.
93,332 | Murray's Iron Works, Inc | Commerce, CA | November 28, 2016.
93,337 | Affinion Group, Inc., Affinion Group Holdings, DXM-Webloyalty, DXE-Trilegiant Retail Services | Trumbull, CT | December 1, 2016.
93,341 | Jabil Inc., Nypro, Adecco NA, Infotree Service, The Fountain Group | Porterville, CA | November 14, 2016.
93,366 | Belden, Nesco Resource and Industrial Cleaning | Monticello, KY | March 16, 2018.
93,373 | HBW Leads LLC, Six Eleven Global Services and Solutions | Salem, OR | December 8, 2016.
93,386 | Futuris Automotive, Seating Division, Manpower Staffing | Milan, TN | December 12, 2016.
93,388 | AccuTec Blades Inc., Single Edge Blade, Hand Packaging, Blade Back, Addecco Staffing Agency | Verona, VA | December 11, 2016.
93,390 | Goodrich Corporation, UTC Aerospace Systems Company, Landing Systems Business Unit, etc | Tullahoma, TN | December 21, 2016.
93,395 | ITW EAE, Illinois Tool Works, IRT Group, Aerotek | Lakeville, MN | December 28, 2016.
93,396 | Thomson Reuters, Financial & Risk, Reuters, Thomson Reuters Corporate Function, etc | New York, NY | December 27, 2016.
93,403 | AMETEK Instrumentation Systems, Instrumentation System, Adecco | Grand Junction, CO | December 28, 2016.
93,405 | Westcon Group North America, Inc., Synnex Corp., Workspend | Louisville, CO | January 3, 2017.
93,418 | Capital One US Card Operations, Capital One Financial Corporation | Glen Allen, VA | January 11, 2017.
93,422 | Crescent Bank & Trust, Call Center, CB&T Holding Corporation | Baton Rouge, LA | January 11, 2017.
93,429 | Architectural Lighting Works (ALW) | Redwood City, CA | January 17, 2017.
93,433 | Seagate Technology, LLC, Teksystems | Oklahoma City, OK | January 9, 2017.
93,440 | Zimmer Dental, Inc., Zimmer Biomet, Adecco, Lek Consulting, F Dohmen, Tribusallen, etc | Carlsbad, CA | January 19, 2017.
93,440A | Zimmer Dental, Inc., Zimmer Biomet, Adecco, Lek Consulting, F Dohmen, Tribusallen, etc | Carlsbad, CA | January 19, 2017.
93,441 | Allstate Investments, LLC, Investment Expense Division, Eagle Investment Systems, Genpact, etc | Northbrook, IL | January 23, 2017.
93,442 | Blackpoint IT Services | Portland, OR | January 23, 2017.
93,444 | GateHouse Media Pennsylvania Holdings, Inc., Bucks County Courier Times, Media Production Design, Marketing Design, etc | Levittown, PA | January 9, 2017.
93,455 | MACOM Technology Solutions, Aerotek | Long Beach, CA | January 25, 2017.
93,457 | Staples, Inc., Data Center Info Structure OPS, Tata Consultancy Services, Compucom, etc | Framingham, MA | January 25, 2017.
93,457A | Staples, Inc., Data Center Info Structure OPS, Tata Consultancy Services, Compucom, etc | Westminster, CO | January 25, 2017.
93,459 | Ascena Retail Group, Inc., Customer Care Team | Duluth, MN | December 29, 2016.
93,460 | Ministry Health Care Inc., Ascension Health, Ascension Health Ministry Service Center, etc | Appleton, WI | January 9, 2017.
93,462 | Bank of America, Bank of America, N.A | Simi Valley, CA | December 1, 2016.
93,477 | TitanX Engine Cooling, Inc., Tata AutoComp Systems Limited | Jamestown, NY | November 6, 2017.
93,479 | Sonova USA, Inc., Unitron Hearing, Inc., Aerotek, Award Staffing | Plymouth, MN | December 14, 2016.
93,483 | AVX Corporation, Passive Components, Kyocera Corporation, South Coast Networks | Myrtle Beach, SC | March 4, 2018.
93,484 | CA Technologies, CA, Inc | Fort Collins, CO | January 12, 2017.
93,495 | Teradyne, Inc., Semiconductor Test Division, CDI | North Reading, MA | January 29, 2017.
93,499 | Zodiac Seats California LLC, Volt Workforce Solutions, 11340 Jersey Boulevard | Rancho Cucamonga, CA | January 18, 2017.
93,499A | Zodiac Seats California LLC, Volt Workforce Solutions, 8595 Milliken Avenue, Suite 101 | Rancho Cucamonga, CA | January 18, 2017.
93,503 | Medtronic, Inc., Restorative Therapies Group, Populous, Insource Technical Group, inSync Staffing, etc | Littleton, MA | January 30, 2017.
93,504 | Transamerica Life Insurance Company, TT Cyberlife Product Development, TT Cyberlife Support, DXC Technology | St. Petersburg, FL | January 30, 2017.
93,505 | Tridien Medical, Morales Group, Express Employment Professionals, ProResources | Fishers, IN | January 29, 2017.
93,507 | Cherrington Enterprises Inc | Clarissa, MN | January 31, 2017.
93,507A | Cherrington Enterprises Inc | Jamestown, ND | January 31, 2017.
93,508 | Nippon Steel & Sumikin Materials USA Inc | Fayetteville, TN | January 31, 2017.
93,509 | Nelson & Sons, Inc., Anchor USA Inc., Intermountain Staffing | Tooele, UT | January 31, 2017.
93,512 | Gildan Garments Inc., Gildan Activewear Inc., HW Staffing Solutions, Monroe Staffing | New Bedford, MA | February 2, 2017.
93,513 | KACO New Energy, Inc. (KACO USA), KACO New Energy, VIP Staffing, 1st Staffing, L.K. Jordan & Associates, etc | San Antonio, TX | January 30, 2017.
93,514 | Meijer Great Lakes Limited Partnership, Corporate Information Technology and Services, Meijer, Add Ventures, etc | Grand Rapids, MI | January 31, 2017.
93,515 | Travelport, LP, Travelport Worldwide Limited, Tata Consultancy Services, etc | Centennial, CO | February 1, 2017.
93,520 | Dentsply Sirona, Midwest division, Adecco | Des Plaines, IL | February 5, 2017.
93,522 | Siemens Industry Inc., Energy Management Division, Randstad Sourceright | West Chicago, IL | January 30, 2017.
93,530 | HCL America Inc., ERS (Engineering R& D Services), HCL Bermuda Ltd., Axon Group Ltd | Naperville, IL | February 22, 2018.
93,535 | Eaton Corporation, Industrial Sector, Hydraulics Group | Spencer, IA | April 25, 2018.
93,536 | Medtronic, Plc, CVG Division | Santa Rosa, CA | February 8, 2017.
93,537 | Sarder Inc., DBA NetCom Learning | New York, NY | February 8, 2017.
93,540 | CareFusion Resources, LLC, BD Medical, Becton, Dickinson and Company | San Diego, CA | February 9, 2017.
93,544 | Dover Business Services, Dover Corporation, KForce, Accountemps | Hamilton, OH | February 9, 2017.
93,548 | Nuance Transcription Services, Inc., Nuance Communications, Inc | Atlanta, GA | November 3, 2017.
93,550 | Crown Forwarding, Inc., World Mobility, Crown Pacific | Danbury, CT | February 12, 2017.
93,553 | Clinicient, Inc., Boly Welch, Kforce, Inc | Portland, OR | February 14, 2017.
93,554 | National Credit Adjusters, LLC, Fourth Avenue Holdings, LLC | Hutchinson, KS | February 12, 2017.
93,557 | Zodiac Aerospace, Industry, People to People Staffing (P2P), Helpmates | Garden Grove, CA | February 15, 2017.
93,560 | Nilfisk, Inc., Accounting-AP (Finance), Marketing Services, Nilfisk US Holding, etc | Brooklyn Park, MN | February 16, 2017.
93,562 | Stahl USA, Inc., Polycarbonate Diol Resin, Robert Half, Winter Wyman, NESCO | Peabody, MA | January 21, 2017.
93,564 | American Showa, Inc., Showa Japan, Adecco, Belfex, Accountemps | Blanchester, OH | February 20, 2017.
93,566 | Allegro Microsystems LLC, Sanken North America, Sanken Electric Co., LTD (Japan) | Worcester, MA | February 14, 2017.
93,567 | John Wiley & Sons, Inc., The Creative Group, Prime Staffing | Hoboken, NJ | February 22, 2017.
93,568 | Lord & Taylor LLC, Finance Department | Wilkes Barre, PA | February 21, 2017.
93,569 | Siemens Energy Inc., Energy Division, Belcan Engineering | Mount Vernon, OH | April 23, 2018.
93,569A | Leased Workers from Quest Global Services Pte Ltd, TATA Consultancy Services, CBRE, Ohio Security Systems, OSS, etc | Mount Vernon, OH | February 21, 2017.
93,573 | The Guardian Life Insurance Company of America, Individual Markets-Business Administration and Controls, etc | Pittsfield, MA | February 20, 2017.
93,576 | Ann Taylor, Inc., Ascena Retail Group, Inc., Human Resources and Finance Support Services | Milford, CT | February 23, 2017.
93,581 | Danfoss LLC, Danfoss A/S, Staff Management, Express Pros | Mountainside, NJ | February 26, 2017.
93,598 | SimplexGrinnell, TYCO SimplexGrinnell, Order to Cash, Johnson Controls, Agile 1, etc | Westminister, MA | February 27, 2017.
93,604 | Qiagen LLC (formerly Qiaqen Inc.), Qiagen North American Holdings, TalentWRx, ClearPath | Germantown, MD | March 1, 2017.
93,607 | Duvaltex (US) Inc., Duvaltex | Elkin, NC | March 5, 2017.
93,613 | Zareba Systems, Inc., Woodstream Corporation, Doherty Staffing | Ellendale, MN | March 5, 2017.
93,633 | Franklin Electric, Co., Inc., Manpower, Pro Resources, Aerotek | Gas City, IN | March 11, 2017.
93,640 | TE Connectivity (formerly TechDevice), Medical, MicroTech, Kelly Services | Watertown, MA | March 13, 2017.

The following certifications have been issued. The requirements of Section 222(b) (supplier to a firm whose workers are certified eligible to apply for TAA) of the Trade Act have been met.

TA-W No. | Subject firm | Location | Impact date
93,384 | Torpedo Specialty Wire, Inc | Pittsfield, PA | November 15, 2016.

The following certifications have been issued. The requirements of Section 222(e) (firms identified by the International Trade Commission) of the Trade Act have been met.

TA-W No. | Subject firm | Location | Impact date
93,290 | HITCO Carbon Composites, Inc., SGL Technologies North America Corp., Ronin Staffing | Gardena, CA | March 16, 2016.
93,424 | AK Steel Corporation | Coshocton, OH | March 30, 2016.
93,424A | AK Steel Corporation | Mansfield, OH | March 30, 2016.
93,424B | AK Steel Corporation | Middletown, OH | March 30, 2016.
93,424C | AK Steel Corporation | Zanesville, OH | March 30, 2016.
93,438 | Titan Tire Corporation, Titan International | Des Moines, IA | February 28, 2016.
93,449 | Metallurgical Products Company | West Chester, PA | April 20, 2016.
93,453 | Evergreen Metallurgical Company LLC dba Bear Metallurgical Company, Yilmaden Holding A.S., Express Employment Professionals | Butler, PA | May 12, 2016.
93,458 | ABC Coke, Drummond Company, Inc | Tarrant, AL | March 7, 2016.
93,472 | PDM Steel Service Centers, Inc., Division 74, Cornerstone Staffing | Stockton, CA | May 23, 2016.
93,518 | BASF Corporation, Mundy Maintenance, Burrow Globe, Performance Com, Kelly Services, etc | Freeport, TX | March 7, 2016.
93,524 | EVRAZ Stratcor, Inc | Hot Springs, AR | February 9, 2018.
93,525 | Gulf Chemical & Metallurgical Corporation, Comilog Holding, Clark Industrial Services, Miller Consolidated, etc | Freeport, TX | May 12, 2016.
93,526 | JSW Steel (USA) Inc., Periama Holdings, LLC, St. James Investments Ltd | Baytown, TX | January 26, 2016.
93,615 | Byer Steel, Aerotek, CB Staffing, Guardian Staffing Solutions, Excel Staffing Services | Cincinnati, OH | July 7, 2016.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
93,306 | Vertellus LLC | Delaware Water Gap, PA. |
93,511 | CMA CGM (America) LLC, Operations, Legal, and Commercial Support Division | Norfolk, VA. |
93,511A | CMA CGM (America) LLC, Customer Service Center, Office Team, Randstad, Priority Staffing, etc | Norfolk, VA. |
93,521 | PCI Nitrogen LLC | Pasadena, TX. |

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,264 | Ericsson, Inc., Business Unit Network Services, Business Line Product Related Services, etc | Plano, TX. |
93,528 | Convergys | Sergeant Bluff, IA. |

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
92,481 | Teva Pharmaceuticals USA, Inc., Kelly OCG | Pomona, NY. |
92,841 | Honeywell International, Inc., Automation Control Systems Business Unit, Smart Grid Solutions, Tapfin | East Syracuse, NY. |
92,909 | ZeaChem, Inc. | Boardman, OR. |
93,019 | Diamond Foods, LLC, Balanced Staffing, RHI, Adecco, Nelson Staffing | Stockton, CA. |
93,146 | Southworth Company, Oasis Outsourcing | Agawam, MA. |
93,146A | Southworth Company, Oasis Outsourcing | Turner Falls, MA. |
93,192 | Oracle Corporation, Advanced Customer Services/Managed Cloud Services Division | Chicago, IL. |
93,192A | Oracle Corporation, Advanced Customer Services/Managed Cloud Services Division | Itasca, IL. |
93,223 | Saint-Gobain Proppants, Saint Gobain NorPro, Saint-Gobain Corporation | Fort Smith, AR. |
93,314 | Aerogroup International, Inc., Aerosoles, AGI HoldCo, Aerogroup Retail Holdings, Nauticus Group, etc | Edison, NJ. |
93,333 | Julius Koch USA, Inc., H. W. Staffing and Moore Staffing | New Bedford, MA. |
93,363 | CHS, Inc., Processing and Food Ingredients Division, Team Employment, The Arnold Group | Hutchinson, KS. |
93,387 | Valley Processing Virginia LLC, MRP Holdings Inc | Bedford, VA. |
93,431 | Optum Services Inc., United HealthGroup, Infrastructure Platform Automation, Enterprise Engineering Services | Hartford, CT. |
93,435 | CHS Inc., Processing and Food Ingredients, Advance Service Inc | Creston, IA. |
93,436 | Link Snacks, Inc., Laurens Distribution Center, JLBJ Holdings, Aventure Staffing, etc | Laurens, IA. |
93,464 | Callery LLC, BASF, Tatum, Choice One Staffing, Robert Half, G4S, CHR | Evans City, PA. |
93,465 | CHS Inc., Processing and Food Ingredients Division | Inver Grove Heights, MN. |
93,487 | Danisco US, Inc., E. I. du Pont de Nemours and Company, Wangsgard Farms, etc | Nevada, IA. |

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
93,291 | iMedX, Inc., 3560 Lenox Road, Suite 3000 | Atlanta, GA. |
93,439 | Mitas Tires North America, Inc | Charles City, IA. |
93,492 | Outokumpu Stainless USA, LLC | Bannockburn, IL. |
93,494 | Secure Toss, Entergy Nuclear Operations, Inc., Entergy Corporation | Vernon, VT. |
93,541 | Weldbend Corporation | Argo, IL. |
93,609 | Lincare | Clearwater, FL. |
93,643 | General Electric | Anasco, PR. |

The following determinations terminating investigations were issued because the worker group on whose behalf the petition was filed is covered under an existing certification.

TA-W No. | Subject firm | Location | Impact date
93,116 | DeVry Education Group, Help Desk | Downers Grove, IL. |
93,130 | MergeIT LLC | Fort Lauderdale, FL. |
93,186 | Faurecia Automotive | Fraser, MI. |
93,204 | Plews, Inc., Basil Tree LLC, Manpower | Dixon, IL. |
93,380 | GE Inspection Technologies, GE Oil and Gas, Kelly Services, Compucom | Lewiston, PA. |
93,381 | Altair, The Boeing Company, Boeing Commercial Aircraft (BCA) | Everett, WA. |
93,399 | Atlas Copco Secoroc LLC | Grand Prairie, TX. |
93,423 | GE MDS, LLC, GE Power Division, Kelly Services | Rochester, NY. |
93,434 | Bridgestone Americas Tire Operation LLC, Firestone AG, Bridgestone Americas Tire Operation, Vonachen Services, etc | Des Moines, IA. |
93,437 | RR Donnelley, Digital Solutions Group, 24/7 Staffing Agency | Lancaster, PA. |
93,478 | Unitek Services, Inc., General Electric Company, Transportation Division | Erie, PA. |
93,489 | Itron, Inc., Crown Services, Inc | Owenton, KY. |
93,500 | UCI-FRAM Group, LLC/Autolite | Fostoria, OH. |
93,519 | Cone Denim, LLC, Administration and Sales, International Textile Group, Inc | Greensboro, NC. |
93,539 | Payless ShoeSource, Inc., Customer Support center, Cognizant Technology Solutions, Kelly, etc | Topeka, KS. |
93,591 | LexisNexis | Colorado Springs, CO. |
93,630 | Pharmaceutics International Inc | Hunt Valley, MD. |

The following determinations terminating investigations were issued because the petitioning group of workers is covered by an earlier petition that is the subject of an ongoing investigation for which a determination has not yet been issued.

TA-W No. | Subject firm | Location | Impact date
93,534 | Convergys | Sergeant Bluff, IA. |
93,561 | Penske Logistics, El Paso Distribution Center, General Electric/Penske Corporation | El Paso, TX. |

I hereby certify that the aforementioned determinations were issued during the period of February 26, 2018 through March 30, 2018. These determinations are available on the Department's website https://www.doleta.gov/tradeact/taa/taa_search_form.cfm under the searchable listing determinations or by calling the Office of Trade Adjustment Assistance toll free at 888-365-6822.

Signed at Washington, DC, this 4th day of April 2018.
Hope D. Kinglock,
Certifying Officer, Office of Trade Adjustment Assistance.

[FR Doc. 2018-11633 Filed 5-30-18; 8:45 am]

BILLING CODE 4510-FN-P